NUCLEAR REGULATORY COMMISSION

[Docket No. 50-391]

In the Matter of Tennessee Valley Authority (Watts Bar Nuclear Plant, Unit 2); Order

Tennessee Valley Authority (TVA, the permittee) is the current holder of Construction Permit No. CPPR-92, issued by the Atomic Energy Commission on January 23, 1973, for construction of the Watts Bar Nuclear Plant (WBN), Unit 2. (CPPR-91 for construction of WBN Unit 1 was also issued on January 23, 1973, and Facility Operating License NPF-90 was issued for operation of Unit 1 on February 7, 1996.) Unit 2 is currently partially completed and is being maintained in a construction layup status. These facilities are at the permittee's site on the west branch of the Tennessee River approximately 50 miles northeast of Chattanooga, Tennessee.

On October 13, 1999, the Tennessee Valley Authority filed a request pursuant to 10 CFR 50.55(b) for an extension of the completion date for Unit 2 to December 31, 2010. This request was supplemented by letter dated July 14, 2000. The permittee requested this extension for Unit 2 for the following reasons, as stated in its application:

At this time, WBN Unit 2 is being maintained in a construction layup status. TVA plans to maintain the unit in this status pending the determination of new generation (supply-side) options to meet future electric power demands. TVA's integrated resource plan—Energy Vision 2020—identified the need for a flexible range of options and alternatives required to meet, among other things, the Tennessee Valley region's new base-load power supply needs through the year 2020. Recent record breaking energy demand in the Tennessee Valley reinforced TVA's obligation to provide ample safe, economic, reliable, and environmentally responsible sources of electric power. Fulfilling this responsibility in light of the many uncertainties associated with the future electric utility industry makes it imperative that TVA maintain a robust and flexible range of generating options. The extension of WBN Unit 2's construction permit will help TVA maintain a full scope of competitive energy production choices.

In support of this request, the permittee stated that

[WBN Unit 2 meets] * * * NRC's definition for deferred nuclear plant units as described in Generic Letter (GL) 87-15, “Policy Statement on Deferred Plants.” Consideration of these units in a deferred status does not constitute a reduction in commitment in accordance with 10 CFR 50.55(f)(3)(i).

The current quality assurance requirements applicable to the subject units, particularly the maintenance, preservation, and documentation requirements, will continue in accordance with the Nuclear Quality Assurance Plan * * * (NQA Plan). Future changes to the NQA Plan may be submitted commensurate with the site activities and expected length of delay, in accordance with 10 CFR 50.55(f)(3).

TVA has established maintenance and lay-up programs that are described and controlled in accordance with approved plant procedures. No changes have been made to these programs as a result of considering these units in accordance with GL 87-15. These programs have been inspected periodically since their inception. NRC conducted the last inspection of * * * WBN Unit 2 in July 1999* * *, and no findings or violations were identified.

Consistent with GL 87-15 * * * and 10 CFR 2.109, “Effect of Timely Renewal Application,” TVA is maintaining * * * [the WBN Unit 2] construction permit * * * . At this time, no projected date for the resumption of construction activities for * * * [WBN Unit 2] is available.

The NRC's Policy Statement on Deferred Plants addresses extension of construction permits for plants in deferred status and states that the staff will consider such extensions in accordance with 10 CFR 50.55(b). Section 50.55(b) does not specify any limit on the duration of an extension that the staff may grant, but states that “Upon good cause shown the Commission will extend the completion date for a reasonable period of time.” The staff has concluded that the permitee's stated bases for the requested duration of the extension represent good cause and are reasonable, and that this action involves no significant hazards consideration.

Pursuant to 10 CFR 51.32, the Commission has determined that extending the construction completion date will have no significant impact on the environment.

The NRC staff has prepared an environmental assessment and finding of no significant impact which was published in the Federal Register on October 10, 2000.

For further details with respect to this action, see the application dated October 13, 1999, as supplemented by letter dated July 14, 2000, and the NRC staff's letter and Safety Evaluation of the request for extension of the construction permit, dated October 24, 2000. Documents may be examined, and/or copied for a fee, at the NRC's Public Document Room, located at One White Flint North, 11555 Rockville Pike (first floor), Rockville, Maryland, and are accessible electronically through the ADAMS public Electronic Reading Room link at the NRC Web site (http://www.nrc.gov).

It Is Hereby Ordered That the latest completion date for Construction Permit No. CPPR-92 is extended from December 31, 1999, to December 31, 2010.

Dated at Rockville, Maryland, this 24th day of October 2000.
For the Nuclear Regulatory Commission.
Brian W. Sheron,
Acting Director, Office of Nuclear Reactor Regulation.

[FR Doc. 00-27808 Filed 10-27-00; 8:45 am]

BILLING CODE 7590-01-P